DEPARTMENT OF THE INTERIOR

Bureau of Land Management

[BLM_CO_FRN_MO4500179560]

Notice of Availability of the Proposed Resource Management Plan Amendment and Final Environmental Impact Statement for the Gunnison Sage-Grouse (Centrocercus minimus), Colorado and Utah

AGENCY: Bureau of Land Management, Interior.

ACTION: Notice of availability.

SUMMARY: In compliance with the National Environmental Policy Act of 1969, as amended (NEPA), and the Federal Land Policy and Management Act of 1976, as amended (FLMPA), the Bureau of Land Management (BLM) has prepared a proposed resource management plan (RMP) amendment and final environmental impact statement (EIS) for the Gunnison Sage-Grouse (Centrocercus minimus) and by this notice is announcing the start of a 30-day protest period of the proposed RMP amendment.

DATES: This notice announces the beginning of a 30-day protest period to the BLM on the proposed RMP amendment. Protests must be postmarked or electronically submitted on the BLM's ePlanning site within 30 days of the date that the Environmental Protection Agency (EPA) publishes its Notice of Availability (NOA) in the Federal Register. The EPA usually publishes its NOAs on Fridays.

ADDRESSES: The proposed RMP amendment and final EIS is available on the BLM ePlanning project website at https://eplanning.blm.gov/eplanning-ui/project/2019031/510. Documents pertinent to this proposal may also be examined at the Grand Junction, Uncompahgre, Tres Rios, Gunnison, San Luis Valley, Moab, and Monticello Field Offices.

Instructions for filing a protest with the BLM for the Gunnison Sage-Grouse (Centrocercus minimus) RMP amendment can be found at: https://www.blm.gov/programs/planning-and-nepa/public-participation/filing-a-plan-protest and at 43 CFR 1610.5-2. All protests must be submitted in writing by one of the following methods:

Website: https://eplanning.blm.gov/eplanning-ui/project/2019031/510.

Regular mail and overnight mail: BLM Director, Attention: Protest Coordinator (HQ210), Denver Federal Center, Building 40 (Door W-4), Lakewood, CO 80215.

FOR FURTHER INFORMATION CONTACT: Gina Phillips, Project Manager, BLM Colorado, telephone 970-589-9852; BLM Southwest District Office, 2465 S. Townsend Ave., Montrose, CO 81401; email BLM_CO_GUSG_RMPA@blm.gov. Individuals in the United States who are deaf, deafblind, hard of hearing, or have a speech disability may dial 711 (TTY, TDD, or TeleBraille) to access telecommunications relay services for contacting Ms. Phillips. Individuals outside the United States should use the relay services offered within their country to make international calls to the point-of-contact in the United States.

SUPPLEMENTARY INFORMATION: The RMP amendment would change the following existing plans.

Colorado

• Canyons of the Ancients National Monument RMP (2010)

• Dominguez-Escalante National Conservation Area RMP (2017)

• Grand Junction Field Office RMP (2015)

• Gunnison Gorge National Conservation Area RMP (2004)

• Gunnison Resource Area RMP (1993)

• McInnis Canyons National Conservation Area RMP (2004)

• San Luis Resource Area RMP (1991)

• Tres Rios Field Office RMP (2015)

• Uncompahgre Field Office RMP (2020)

Utah

• Moab Field Office RMP (2008)

• Monticello Field Office RMP (2008)

The Gunnison Sage-Grouse RMP amendment updates management decisions and actions to promote Gunnison sage-grouse recovery and maintain and enhance habitat, as identified in the 2020 U.S. Fish and Wildlife Service (USFWS) Recovery Plan, across the eight currently recognized populations in southwest Colorado and southeast Utah. Gunnison sage-grouse is federally listed as a threatened species under the Endangered Species Act (ESA) (16 U.S.C. 1531-1544).

Planning Area

The planning area spans portions of 19 Colorado Counties: Alamosa, Archuleta, Conejos, Costilla, Delta, Dolores, Garfield, Gunnison, Hinsdale, La Plata, Mesa, Mineral, Montezuma, Montrose, Ouray, Rio Grande, Saguache, San Juan, and San Miguel; and two Utah Counties: Grand and San Juan; and encompasses approximately 25 million acres of public land.

Purpose and Need

The BLM's purpose consists of the following:

• Promote the recovery of the threatened Gunnison sage-grouse and maintain and enhance BLM-administered occupied and unoccupied habitat upon which the species depends, while continuing to manage the land wherever possible for multiple use and sustained yield;

• Ensure management actions on BLM-administered lands support conservation goals for Gunnison sage-grouse and their habitat;

• Ensure that BLM management aligns with current science and data; relevant Federal, State, and local decisions supporting recovery; the Department of the Interior Climate Action Plan; and the USFWS Final Recovery Plan for Gunnison Sage-Grouse and Recovery Implementation Strategy for Gunnison Sage-Grouse (Centrocercus minimus); and

• Provide consistent guidance for addressing threats to Gunnison sage-grouse populations and their habitat.

This BLM action is necessary to accomplish the following:

• Address the range-wide downward population trend of Gunnison sage-grouse since 2014 and address issues related to land management that may affect occupied and unoccupied habitat;

• Respond to the ESA section 7(a)(1) (16 U.S.C. 1536(a)(1)) requirement that the BLM use its authority to further the purposes of the ESA by implementing management actions for the conservation of federally listed species and the ecosystems upon which they depend; and

• Respond to changing ecological and climate conditions affecting BLM-administered lands, including drought, habitat loss and fragmentation, reduced riparian areas, and more frequent wildland fires.

Alternatives Considered, Including the Proposed Plan Alternative

The BLM analyzed six alternatives in detail, including the no action alternative. This land use plan amendment addresses management actions impacting, or with the potential to impact, Gunnison sage-grouse and occupied and unoccupied habitat in the decision area. The decision area consists of approximately 2,182,660 acres of BLM-managed surface lands (1,951,440 acres in Colorado and 231,220 acres in Utah) and 2,852,390 acres of Federal subsurface mineral estate (2,563,220 acres in Colorado and 289,170 acres in Utah). Alternative A (No Action Alternative—Current Management) would continue current BLM management direction in the 11 administrative units in the planning area.

Alternative B would prioritize removing identified threats within occupied and unoccupied habitat and reduce impacts within the decision area, which includes a 4-mile buffer around habitat and potential linkage-connectivity areas to the maximum extent allowable. Alternative B contains two sub-alternatives for livestock grazing management actions in response to recommendations made in public scoping comments. Alternative B would designate all nominated Areas of Critical Environmental Concern (ACECs) that meet relevance and importance criteria.

Alternative C would minimize, mitigate, or compensate for impacts from resource uses and activities in occupied and unoccupied habitat. No new ACECs would be designated under Alternative C.

Alternative D would allocate resource uses and conserve resource values while sustaining and enhancing ecological integrity across the decision area and designate a specific subset of nominated ACECs. Conservation measures focus on occupied and unoccupied habitat that includes a 1-mile buffer around habitat and could extend to linkage-connectivity areas.

Alternative E considers adopting applicable management direction from the interagency Candidate Conservation Agreement for the Gunnison sage-grouse, Gunnison Basin Population.

Alternative F (proposed plan amendment) was developed in response to public comments on the draft RMP amendment/EIS and, similar to Alternative D, focuses conservation measures on occupied and unoccupied habitat. For all populations, Alternative F would apply buffers to all lek statuses (active, inactive, historic, unknown, occupied, and unoccupied) and manage with the objective of no increase in net surface disturbance; and it proposes management to increase available habitat for all Gunnison sage-grouse populations.

The BLM considered three additional alternatives but dismissed them from detailed analysis as explained in section 2.1.2.2 of the proposed RMP amendment/EIS.

Public Involvement

The BLM published a notice of intent in the Federal Register to initiate the public scoping period for this planning effort on July 6, 2022 (87 FR 40262). The BLM hosted four public scoping meetings (in Dove Creek, CO and Gunnison, CO) and two virtual public meetings to solicit nominations for ACECs, identify the scope of issues to be addressed in the RMP amendment, and gather input to assist in formulating a reasonable range of alternatives. The resource concerns identified during the scoping process included Gunnison sage-grouse habitat, vegetation, livestock grazing management, mineral development, renewable energy development, wildland fire ecology and management, ACECs, recreation, lands and realty, air resources, soil resources, lands with wilderness characteristics, and social and economic conditions.

After preparing the draft RMP amendment/EIS in coordination with 30 cooperating agencies and working with Tribes, the BLM announced the 90-day comment period through publication of its NOA in the Federal Register on November 9, 2023 (88 FR 77353). During the comment period, the BLM held two in-person public meetings (in Dove Creek, CO and Gunnison, CO) and one virtual public meeting to inform the public and solicit comments on the draft documents. The BLM received 141 comment letters (including 115 unique letters and 26 form, form plus, or duplicate letters) during the comment period. The BLM reviewed all letters submitted, analyzed the comments, considered substantive comments, and revised the RMP amendment/EIS accordingly. Comments and responses are attached as Appendix W in the proposed RMP amendment/EIS.

Changes Between Draft RMP Amendment and Proposed RMP Amendment

Based on public comments received on the draft RMP amendment/draft EIS, the BLM updated the proposed RMP amendment/final EIS (Alternative F) by incorporating management actions and allowable uses from Alternatives A, B, C, D, and E, including corrections and rewording for clarification of purpose and intent. Language throughout the document was revisited for readability and to meet the required page limits for an EIS. In consideration of comments received, the following management was updated in Alternative F:

• Uses would be avoided in buffer distances for all Gunnison sage-grouse lek statuses (active, inactive, historic, unknown in Colorado, occupied, and unoccupied in Utah);

• Objectives and management for net surface disturbance rather than disturbance caps were clarified;

• Management for Gunnison sage-grouse satellite populations was recognized as different in some aspects from the Gunnison Basin population under Lands and Realty and Recreation;

• Management in the current and proposed ACECs was refined, and a new Backcountry Conservation Area would be designated; and

• Appendices were also developed and expanded upon.

Protest of the Proposed RMP Amendment

The BLM planning regulations state that any person who participated in the preparation of the RMP and has an interest that will or might be adversely affected by approval of the proposed RMP amendment may protest its approval to the BLM. Protest on the proposed RMP amendment constitutes the final opportunity for administrative review of the proposed land use planning decisions prior to the BLM adopting an approved RMP amendment. Instructions for filing a protest with the BLM regarding the proposed RMP amendment may be found online (see ADDRESSES). All protests must be in writing and mailed to the appropriate address or submitted electronically through the BLM ePlanning project website (see ADDRESSES). Protests submitted electronically by any means other than the ePlanning project website will be invalid unless a hard copy of the protest is also submitted. The BLM will render a written decision on each protest. The protest decision of the BLM shall be the final decision of the Department of the Interior. Responses to valid protest issues will be compiled and documented in a Protest Resolution Report made available following the protest resolution online at: https://www.blm.gov/programs/planning-and-nepa/public-participation/protest-resolution-reports. Upon resolution of protests, the BLM will issue a Record of Decision and approved RMP amendment.

Before including your phone number, email address, or other personal identifying information in your protest you should be aware that your entire protest—including your personal identifying information—may be made publicly available at any time. While you can ask us in your protest to withhold your personal identifying information from public review, we cannot guarantee that we will be able to do so.

(Authority: 40 CFR 1506.6, 40 CFR 1506.10, 43 CFR 1610.2; 43 CFR 1610.5)

Douglas J. Vilsack,
State Director.

[FR Doc. 2024-14531 Filed 7-3-24; 8:45 am]

BILLING CODE 4331-16-P